DEPARTMENT OF VETERANS AFFAIRS

[OMB Control No. 2900-0188]

Agency Information Collection Activity Under OMB Review: Applications for Motor Vehicle Adaptive Equipment and HISA Services

AGENCY: Veterans Health Administration, Department of Veterans Affairs.

ACTION: Notice.

SUMMARY: In compliance with the Paperwork Reduction Act (PRA) of 1995, this notice announces that the Veterans Health Administration, Department of Veterans Affairs, will submit the collection of information abstracted below to the Office of Management and Budget (OMB) for review and comment. The PRA submission describes the nature of the information collection and its expected cost and burden and it includes the actual data collection instrument.

DATES: Written comments and recommendations for the proposed information collection should be sent within 30 days of publication of this notice to www.reginfo.gov/public/do/PRAMain. Find this particular information collection by selecting “Currently under 30-day Review—Open for Public Comments” or by using the search function. Refer to “OMB Control No. 2900-0188.”

FOR FURTHER INFORMATION CONTACT: Maribel Aponte, Office of Enterprise and Integration, Data Governance Analytics (008), 810 Vermont Avenue NW, Washington, DC 20420, (202) 266-4688 or email maribel.aponte@va.gov. Please refer to “OMB Control No. 2900-0188” in any correspondence.

SUPPLEMENTARY INFORMATION: Authority: 44 U.S.C. 3501-3521.

Title: Applications for Motor Vehicle Adaptive Equipment and HISA Services.

OMB Control Number: 2900-0188.

Type of Review: Reinstatement, with revisions, of a previously approved collection.

Abstract: The Department of Veterans Affairs (VA), through its Veterans Health Administration (VHA), administers medical services established by law. Title 38 U.S.C. 1701(6) includes prosthetic items within the scope of medical services. Title 38 U.S.C. 3901, 3902, 3903, 3904, and 1162 authorize the Secretary to provide each person eligible for a motor vehicle grant the adaptive equipment deemed necessary to ensure that the person will be able to operate the vehicle safely, in a manner consistent with the safety of others and to satisfy the applicable standards of licensure established by the state of residency. VA also provides assistance to Veterans applying for Home Improvements and Structural Alterations (HISA) grants. The Prosthetic Service determines eligibility, entitlement, and payment of individual claims for home improvements and structural alterations to accommodate a Veteran's needs.

VA Form 10-1394 will be used to collect necessary information from eligible Veterans applying for motor vehicle adaptive equipment. VA Form 10-0103 will be used to collect necessary information from eligible Veterans applying for HISA grants.

An agency may not conduct or sponsor, and a person is not required to respond to a collection of information unless it displays a currently valid OMB control number. The Federal Register Notice with a 60-day comment period soliciting comments on this collection of information was published at 89 FR 40 on February 28, 2024, pages 14740 and 14741.

Total Annual Burden: 2,750 hours.

Total Annual Responses: 21,000.

Affected Public: Individuals or households.

Estimated Annual Burden:

10-1394-1,500 hours.

10-0103-1,250 hours.

Estimated Average Burden per Respondent:

10-1394-15 minutes.

10-0103-5 minutes.

Frequency of Response: Once annually.

Estimated Number of Respondents:

10-1394-6,000.

10-0103-15,000.

By direction of the Secretary.
Maribel Aponte,
VA PRA Clearance Officer, Office of Enterprise and Integration, Data Governance Analytics, Department of Veterans Affairs.

[FR Doc. 2024-09771 Filed 5-3-24; 8:45 am]

BILLING CODE 8320-01-P